DEPARTMENT OF STATE

[Public Notice 11079]

Notice of Cancellation of Shipping Coordinating Committee Meeting

The Department of State has cancelled a meeting of the Shipping Coordinating Committee that was scheduled for 12 p.m. on March 23, 2020, in Room 6i10-01-c of the Douglas A. Munro Coast Guard Headquarters Building at St. Elizabeth's, 2703 Martin Luther King Jr. Avenue SE, Washington, DC, 20593.

The primary purpose of the meeting was to prepare for the 75th session of the International Maritime Organization's (IMO) Marine Environment Protection Committee to be held at the IMO Headquarters, London, United Kingdom from March 30, to April 3, 2020. That meeting has been postponed indefinitely by the IMO due to concerns over COVID-19. The Department of State will reschedule this public meeting when the Marine Environment Protection Committee meeting is rescheduled.

Jeremy M. Greenwood,
Office of Ocean and Polar Affairs, Department of State.

[FR Doc. 2020-05768 Filed 3-18-20; 8:45 am]

BILLING CODE 4710-05-P